DEPARTMENT OF ENERGY

Federal Energy Regulatory Commission

[Docket No. RP02-143-000]

Kansas Gas Service, A Division of ONEOK, Inc., Complainant, v. Enbridge Pipelines (KPC), Respondent; Notice of Complaint

January 11, 2002.

Take notice that, on January 10, 2002, pursuant to Rule 206 of the Commission's Rules of Practice and Procedure, 18 CFR 385.206 (2001), Kansas Gas Service, a Division of ONEOK, Inc. (Kansas Gas Service) tendered for filing a Complaint against Enbridge Pipelines (KPC).

Kansas Gas Service alleges that: (1) KPC is violating the terms of certain service agreements with Kansas Gas Service, which are part of KPC's approved FERC Gas tariff, by failing to charge lower rates under those service agreements, and (2) KPC's obligation to charge the lower rates was triggered by a separate written agreement, a July 9, 1997 Settlement Agreement, in which KPC, in consideration for Kansas Gas Service's payment of: (1) $7.5 million in August 1997, and (2) rates based on an annual cost of service of $31 million from August 1997 through July 2001, agreed to charge Kansas Gas Service, under the service agreements, a lower Zone 3 rate, effective August 1, 1998, and lower rates based on Williams Gas Pipelines Central's rates for comparable service, effective August 1, 2001.

Kansas Gas Service requests that the Commission determine that: (1) KPC's actions and inaction described in the Complaint constitute unjust and unreasonable rates and rate practices in violation of its FERC Gas tariff and Section 4 of the Natural Gas Act; and (2) KPC should take steps necessary to implement the Settlement Agreement rates as discounted or negotiated rates (and bill Kansas Gas Service accordingly) in order to comply with its tariff and give full effect to the “motion rates,” which KPC urged the Commission to approve in February 1998. Kansas Gas Service further requests that the Commission affirm that: (1) The Commission, in its April 2, 1999 Order in Docket No. CP96-152, 87 FERC ¶ 61,020, did not intend to interpret its various provisions, nor did it intend to void, or otherwise disturb the Agreement, or adjudicate the issue of whether the Settlement Agreement amended the then existing contracts between KPC and Kansas Gas Service; (2) Kansas Gas Service's claims for common law relief based on KPC's breach of contract, repudiation, fraud and breach of the duty of good faith and fair dealing, as pleaded in Kansas Gas Service's Petition in Kansas state court, belong properly in state court in accordance with Commission and court precedent; and (3) if the relief sought by Kansas Gas Service in its state court Petition were granted, such relief would neither violate the filed rate doctrine nor impinge upon the Commission's jurisdiction under the NGA.

Kansas Gas Service requests that the Commission complete action on the Complaint within 110 days, in accordance with the time standards established in Order No. 602 for a decision on the pleadings, III FERC Stats. and Regs. ¶ 31,071, on reh'g and clarification, 88 FERC ¶ 61,114 (1999).

In accordance with subsection (f) of Rule 206, answers, interventions and comments must be filed with the Federal Energy Regulatory Commission, 888 First Street, NE., Washington, DC 20426, on or before January 30, 2002. Copies of this filing are on file with the Commission and are available for public inspection. This filing may also be viewed on the Commission's Web site at http://www.ferc.gov using the “RIMS” link, select “Docket #” and follow the instructions ((202)208-2222 for assistance).

C.B. Spencer,
Acting Secretary.

[FR Doc. 02-1232 Filed 1-16-02; 8:45 am]

BILLING CODE 6717-01-P